DEPARTMENT OF HEALTH AND HUMAN SERVICES

Centers for Medicare & Medicaid Services

[Document Identifier CMS-10169]

Agency Information Collection Activities: Proposed Collection; Comment Request; Correction

AGENCY: Centers for Medicare & Medicaid Services (CMS), HHS.

ACTION: Correction of notice.

SUMMARY: This document corrects the information provided for [Document Identifier: CMS-10169] titled “Durable Medical Equipment, Prosthetics, Orthotics, and Supplies (DMEPOS) Competitive Bidding Program; Change of Ownership Forms.”

FOR FURTHER INFORMATION CONTACT: William N. Parham, III, (410) 786-4669.

SUPPLEMENTARY INFORMATION:

I. Background

In the October 14, 2016, issue of the Federal Register (81 FR 71100), we published a Paperwork Reduction Act notice requesting a 60-day public comment period for the information collection request identified under CMS-10169, OMB control number 0938-1016, and titled “Durable Medical Equipment, Prosthetics, Orthotics, and Supplies (DMEPOS) Competitive Bidding Program; Change of Ownership Forms.”

II. Explanation of Error

In the October 14, 2016, notice, the information provided in the first column under paragraph 2, on page 71101, inadvertently published information in the “Use” section that pertained to an older iteration of the information collection request. This notice corrects the language found in the “Use” section under the 2nd paragraph on page 71101 of the October 14th notice. All of the other information contained in the October 14, 2016, notice is correct. The related public comment period remains in effect and ends December 13, 2016.

III. Correction of Error

In FR Doc. 2016-24910 of October 14, 2016 (81 FR 71100), on page 71101, the language beginning with the word “Use:” in the first column, in the first full paragraph, in the 8th line, and ending in the second column, with the word “basis”, in the second column, in the 33rd line, is corrected to read as follows:

Use: The MMA requires the Secretary to recompete contracts not less often than once every 3 years. Section 1847(a)(1)(G) of the Act, added by section 522(a) of the MACRA, now requires a bid surety bond for bidding entities beginning not earlier than January 1, 2017 and not later than January 1, 2019. The addition to the Act states that a bidding entity may not submit a bid for a CBA unless, as of the deadline for bid submission, the entity has (1) obtained a bid surety bond, in the range of $50,000 to $100,000 and (2) provided the Secretary with proof of having obtained the bid surety bond for each CBA in which the entity submits its bid(s).

Based on the passage of MACRA, we put forth proposed additions to § 414.412, “Submission of bids under a competitive bidding program,” to add a new paragraph (h) that would allow CMS to implement section 1847(a)(1)(G) of the Act, as amended by section 522(a) of MACRA, to state that an entity may not submit a bid for a CBA unless, as of the deadline for bid submission, the entity has obtained a bid surety bond for the CBA.

We are now seeking approval to update our burden estimates to all Forms to account for the consolidation of all rounds in Round 2019. For Round 2019 and the proposed rule, CMS will publish a slightly modified version of Form A so that suppliers will be better able to identify and understand the new requirement related to surety bonds. We have made no changes to Forms B, C, D, Change of Ownership (CHOW) Contract Supplier Notification and Purchaser Forms, and Subcontracting Disclosure Form. However, the burden has been adjusted to account for the increase in the number of respondents due to the consolidation of all CBAs into Round 2019 under this ICR. We intend to continue use of these Forms on an ongoing basis.

Dated: November 10, 2016.
William N. Parham, III,
Director, Paperwork Reduction Staff, Office of Strategic Operations and Regulatory Affairs.

[FR Doc. 2016-27549 Filed 11-16-16; 8:45 am]

BILLING CODE 4120-01-P